DEPARTMENT OF HEALTH AND HUMAN SERVICES

Administration for Children and Families

President's Committee for People With Intellectual Disabilities: Notice of Meeting

AGENCY: President's Committee for People with Intellectual Disabilities (PCPID), Administration for Children and Families, HHS.

ACTION: Notice of meeting.

DATES: The meeting will be held on Friday, March 24, 2006, from 3 p.m. to 5 p.m. Eastern Daylight Savings Time. The full committee meeting of PCPID will be conducted by telephone conference call and will be open to the public. Anyone interested in participating in the conference call should advise Ericka Alston at 202-619-0634, no later than March 17, 2006.

ADDRESSES: The conference call may be accessed by dialing, U.S. toll-free 1-888-395-6878, and the passcode “March 2006” on the date and time indicated.

SUMMARY: Pursuant to Section 10(a) of the Federal Advisory Committee Act as amended (5 U.S.C. Appendix 2) notice is hereby given that the President's Committee for People with Intellectual Disabilities will hold its first quarterly meeting of 2006 by telephone conference call. The conference call will be open to the public to listen, with call-ins limited to the number of telephone lines available. Individuals who plan to call in and need special assistance, such as TTY, assistive listening devices, or materials in alternative format, should inform Ericka Alston, Executive Assistant, PCPID, Telephone—202-619-0634, Fax—202-205-9519, E-mail: ealston@acf.hhs.gov, no later than March 10, 2006. Efforts will be made to meet special requests received after that date, but availability of special needs accommodations to respond to these requests cannot be guaranteed.

Agenda: Committee members will be briefed on the outcome of the March 22, 2006 Roundtable on Personal and Economic Freedom for People with Intellectual Disabilities: An Exploration of Asset Development for People with Intellectual Disabilities that will be jointly sponsored by PCPID, the Administration for Children and Families' Office of Community Services, and the U.S. Department of Health and Human Services' Office of the Assistant Secretary for Planning and Evaluation (ASPE).

FOR FURTHER INFORMATION CONTACT: Sally Atwater, Executive Director, President's Committee for People with Intellectual Disabilities, Aerospace Center Office Building, Suite 701, 901 D Street, SW., Washington, DC 20447, Telephone—202-619-0634, Fax—202-205-9519, E-mail: satwater@acf.hhs.gov.

SUPPLEMENTARY INFORMATION: PCPID acts in an advisory capacity to the President and the Secretary of Health and Human Services on a broad range of topics relating to programs, services and supports for persons with intellectual disabilities. The Committee, by Executive Order, is responsible for evaluating the adequacy of current practices in programs, services and supports for persons with intellectual disabilities, and for reviewing legislative proposals that impact the quality of life experienced by citizens with intellectual disabilities and their families.

Dated: March 1, 2006.
Sally Atwater,
Executive Director, President's Committee for People with Intellectual Disabilities.

[FR Doc. E6-3642 Filed 3-14-06; 8:45 am]

BILLING CODE 4184-01-P